ENVIRONMENTAL PROTECTION AGENCY

[ER-FRL-9012-3]

Environmental Impact Statements; Notice of Availability

Responsible Agency: Office of Federal Activities, General Information (202) 564-7146 or http://www.epa.gov/compliance/nepa/

Weekly receipt of Environmental Impact Statements

Filed 11/18/2013 Through 11/22/2013

Pursuant to 40 CFR 1506.9.

Notice

Section 309(a) of the Clean Air Act requires that EPA make public its comments on EISs issued by other Federal agencies. EPA's comment letters on EISs are available at: http://www.epa.gov/compliance/nepa/eisdata.html.

EIS No. 20130349, Draft EIS, FHWA, NY, New York Gateway Connections Improvement Project to the US Peace Bridge Plaza, Comment Period Ends: 01/13/2014, Contact: Jonathan McDade 518-431-4127.

EIS No. 20130350, Final Supplement, NRC, TX, Generic—License Renewal of Nuclear Plants, Supplement 48, Regarding South Texas Project Units 1 and 2, Review Period Ends: 12/30/2013, Contact: Tam Tran 301-415-3617.

EIS No. 20130351, Final EIS, BIA, CA, Soboba Band of Luiseno Indians' Proposed 534-Acre Trust Acquisition and Casino Project, Review Period Ends: 12/30/2013, Contact: John Rydzik 916-978-6051.

EIS No. 20130352, Final Supplement, USACE, CA, Sutter Basin Pilot Feasibility Study, Review Period Ends: 12/30/2013, Contact: Brad Johnson 916-557-7812.

EIS No. 20130353, Draft EIS, BLM, CA, Soda Mountain Solar Project, Comment Period Ends: 03/03/2014, Contact: Jeff Childers 951-697-5308.

EIS No. 20130354, Final EIS, FHWA, FL, Crosstown Expressway Extension, Review Period Ends: 12/30/2013, Contact: Cathy Kendall 850-553-2225.

Amended Notices

EIS No. 20130335, Final EIS, BLM, NV, Pan Mine Project, Review Period Ends: 12/19/2013, Contact: Miles Kreidler 775-289-1893 Revision to FR Notice Published 11/20/2013; Extending Review Period from 12/16/2013 to 12/19/2013.

EIS No. 20130348, Draft EIS, BLM, UT, TransWest Express Transmission Project, Contact: Sharon Knowlton 307-775-6124; Revision to FR Notice Published 11/22/2013; Retracted due to erroneous filing.

Dated: November 25, 2013.
Cliff Rader,
Director, NEPA Compliance Division, Office of Federal Activities.

[FR Doc. 2013-28658 Filed 11-27-13; 8:45 am]

BILLING CODE 6560-50-P